DEPARTMENT OF ENERGY

Federal Energy Regulatory Commission

[Project No. 13124-003]

Copper Valley Electric Association, Inc.; Notice of Availability of Environmental Assessment

In accordance with the National Environmental Policy Act of 1969 and the Federal Energy Regulatory Commission's (Commission or FERC's) regulations, 18 Code of Federal Regulations (CFR) Part 380 (Order No. 486, 52 Federal Register 47897), the Office of Energy Projects has reviewed Copper Valley Electric Association, Inc.'s application for an original license to construct the Allison Creek Hydroelectric Project (FERC Project No. 13124-003). The proposed 6.5-megawatt project would be located on Allison Creek near Valdez, Alaska. The project would not occupy any federal lands.

Staff prepared a final environmental assessment (EA) which analyzes the potential environmental effects of licensing the project, and concludes that licensing the project, with appropriate environmental protective measures, would not constitute a major federal action that would significantly affect the quality of the human environment.

A copy of the final EA is available for review at the Commission in the Public Reference Room or may be viewed on the Commission's Web site at www.ferc.gov using the “eLibrary” link. Enter the docket number excluding the last three digits in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support. For further information, contact Kim Nguyen by telephone at 202-502-6105, or by email at kim.nguyen@ferc.gov.

Dated: June 21, 2013.
Kimberly D. Bose,
Secretary.

[FR Doc. 2013-15408 Filed 6-26-13; 8:45 am]

BILLING CODE 6717-01-P